DEPARTMENT OF ENERGY

Federal Energy Regulatory Commission

Notice of Effectiveness of Exempt Wholesale Generator or Foreign Utility Company Status

October 26, 2007.

Benton County Wind Farm | EG07-64-000
Scurry County Wind L.P. | EG07-65-000
Jeffers Wind 20, LLC | EG07-66-000
Mansfield 2007 Trust A | EG07-67-000
Mansfield 2007 Trust B | EG07-68-000
Mansfield 2007 Trust C | EG07-69-000
Mansfield 2007 Trust D | EG07-70-000
Mansfield 2007 Trust E | EG07-71-000
Mansfield 2007 Trust F | EG07-72-000
Airtricity Munnsville Wind Farm, LLC | EG07-73-000
CPV Liberty, LLC | EG07-74-000
Gas Natural BAN, S.A. | FC07-52-000
Transportista Eléctrica Centroamericana, S.A. | FC07-53-000

Take notice that during the month of September 2007, the status of the above-captioned entities as Exempt Wholesale Generators or Foreign Utility Companies became effective by operation of the Commission's regulations, with the exception of EG07-65-000, which became effective in July 2007. 18 CFR 366.7(a).

Kimberly D. Bose,
Secretary.

[FR Doc. E7-21732 Filed 11-5-07; 8:45 am]

BILLING CODE 6717-01-P